DEPARTMENT OF LABOR

Employment and Training Administration

[TA-W-37,303 and NAFTA-3688]

Motor Coils Manufacturing, Emporium, Pennsylvania; Notice of Revised Determination on Reconsideration

By application dated March 24, 2000, petitioners requested administrative reconsideration of the Department's denial of Trade Adjustment Assistance (TAA) petition number TA-W-37,303 and North American Free Trade Agreement-Transitional Adjustment Assistance (NAFTA-TAA) petition number NAFTA-3688, for workers and former workers of Motor Coils Manufacturing, Emporium, Pennsylvania. The notices of negative determination were issued March 8, 2000 and published in the Federal Register on March 31, 2000 (65 FR 17312) and (65 FR 17313), respectively.

The March 8, 2000 denial of TAA and NAFTA-TAA for workers of the subject firm engaged in employment related to the refurbishment of traction motors for locomotives at Motor Coils Manufacturing, Emporium, Pennsylvania, was based on the finding that the workers provided a service and did not produce an article within the meaning of the group eligibility requirements of section 222 and 250(a) of the Trade Act of 1974, as amended.

The Department, on reconsideration, has learned that the workers produce an article, and all the worker group eligibility requirements of section 222 of the Trade Act of 1974 have been met. There were declines in sales or production, employment, and increased imports of articles like or directly competitive with those produced by workers of the subject firm.

The Department has obtained information on reconsideration that there were increased company imports of traction motors for locomotives from Mexico during the relevant time period.

Conclusion

After careful consideration of the new facts obtained on reconsideration, it is concluded that the workers of Motor Coils Manufacturing, Emporium, Pennsylvania, were adversely affected by increased imports of articles, including those from Mexico, like or directly competitive with those produced at the subject firm.

All workers of Motor Coils Manufacturing, Emporium, Pennsylvania, who became totally or partially separated from employment on or after January 18, 1999 through two years from the date of the certification, are eligible to apply for worker adjustment assistance under section 223 of the Trade Act of 1974;

* * * and

All workers of Motor Coils Manufacturing, Emporium, Pennsylvania, separated from employment on or after January 17, 1999, through two years from the date of the certification, are eligible to apply for NAFTA-TAA under section 250 of the Trade Act of 1974.

Signed at Washington, DC this 23rd day of May 2000.
Grant D. Beale,
Program Manager, Division of Trade Adjustment Assistance.

[FR Doc. 00-13755 Filed 6-1-00; 8:45 am]

BILLING CODE 4510-30-M